FEDERAL DEPOSIT INSURANCE CORPORATION

Sunshine Act Meeting

Pursuant to the provisions of the “Government in the Sunshine Act” (5 U.S.C. 552b), notice is hereby given that the Federal Deposit Insurance Corporation's Board of Directors will meet in open session at 10:00 a.m. on Wednesday, January 21, 2015, to consider the following matters:

Summary Agenda: No substantive discussion of the following items is anticipated. These matters will be resolved with a single vote unless a member of the Board of Directors requests that an item be moved to the discussion agenda.

Disposition of minutes of previous Board of Directors' Meetings.

Memorandum and resolution re: Notice of Proposed Rulemaking Amending the Securitization Safe Harbor (12 CFR 360.6).

Memorandum and resolution re: Review of FDIC Regulations in Accordance with the EGRPRA.

Memorandum and resolution re: Rescission and Removal of Regulations Transferred from the Office of Thrift Supervision: Part 390, Subpart N—Possession by Conservators and Receivers for Federal and State Savings Associations.

Memorandum and resolution re: Final Rule Regarding Removal of Transferred OTS Regulations 12 CFR part 390, Subparts B, C, D, and E Relating to Rules of Practice and Procedure and Amendments to 12 CFR part 308, Subparts A, B, C, K, and N of the FDIC Rules and Regulations.

Memorandum and resolution re: Notice of Proposed Rulemaking on Fair Credit Reporting Regulations, Part 334 and Part 391, Subpart C: Review and Removal of Regulations Transferred from the Former Office of Thrift Supervision; Removal of Regulations Transferred to the Consumer Financial Protection Bureau; Amendment of Red Flag Identity Theft Rules.

Memorandum and resolution re: Review of Regulations Transferred from the Former Office of Thrift Supervision: Part 391, Subpart B—Safety and Soundness Guidelines and Compliance Procedures.

Reports of actions taken pursuant to authority delegated by the Board of Directors.

Discussion Agenda:

Memorandum and resolution re: Regulatory Capital Rules, Liquidity Coverage Ratio, Proposed Revisions to the Definition of Qualifying Master Netting Agreement and Related Definitions.

The meeting will be held in the Board Room temporarily located on the fourth floor of the FDIC Building located at 550 17th Street NW., Washington, DC.

This Board meeting will be Webcast live via the Internet and subsequently made available on-demand approximately one week after the event. Visit https://fdic.primetime.mediaplatform.com/#!/channel/1232003497484/Board+Meetings to view the event. If you need any technical assistance, please visit our Video Help page at: http://www.fdic.gov/video.html.

The FDIC will provide attendees with auxiliary aids (e.g., sign language interpretation) required for this meeting. Those attendees needing such assistance should call 703-562-2404 (Voice) or 703-649-4354 (Video Phone) to make necessary arrangements.

Requests for further information concerning the meeting may be directed to Mr. Robert E. Feldman, Executive Secretary of the Corporation, at 202-898-7043.

Dated: January 14, 2015.
Federal Deposit Insurance Corporation.
Robert E. Feldman,
Executive Secretary.

[FR Doc. 2015-00800 Filed 1-14-15; 4:15 pm]

BILLING CODE 6714-01-P